DEPARTMENT OF THE INTERIOR

National Indian Gaming Commission

Notice of Intent to Prepare a Supplemental Environmental Impact Statement for the Approval of a Gaming Management Contract

AGENCY: National Indian Gaming Commission, Interior.

ACTION: Notice.

SUMMARY: This notice advises the public that the National Indian Gaming Commission (NIGC) as lead agency, in cooperation with the Jamul Indian Village (Tribe), intends to gather information necessary to prepare a supplemental environmental impact statement (SEIS) for the proposed Gaming Management Contract between the Tribe and San Diego Gaming Ventures, LLC (SDGV). The Gaming Management Contract, if approved, would allow SDGV to manage the approved 203,000 square foot tribal gaming facility to be located on the Tribe's Reservation, which qualifies as “Indian Lands” pursuant to 25 U.S.C. 2703.

The Bureau of Indian Affairs (BIA), Pacific Region, Division of Environmental, Cultural Resources Management & Safety will serve as environmental staff to the NIGC in the preparation of the SEIS. As such, the BIA is the contact for further information, in lieu of the NIGC.

This notice also announces that no public scoping meeting will be held for the SEIS.

DATES: Written comments on the scope and implementation of this proposal must arrive by May 10, 2013. No public scoping meeting will be held for the proposal given the long history of the project and the extensive public input received to-date.

ADDRESSES: You may mail, email, hand carry or fax written comments to: Mr. John Rydzik, Chief, Division of Environmental, Cultural Resources Management &Safety, Bureau of Indian Affairs, Pacific Region, 2800 Cottage Way, Sacramento, CA 95825; Facsimile (916) 978-6055; Email john.rydzik@bia.gov.

FOR FURTHER INFORMATION CONTACT: Mr. John Rydzik (916) 978-6051.

SUPPLEMENTARY INFORMATION: The Tribe is requesting NIGC approval of a Gaming Management Contract between the Tribe and SDGV for the management of a 203,000 square foot gaming facility on the Tribe's Reservation, which is located in unincorporated San Diego County approximately 1-mile south of the unincorporated community of Jamul. Pursuant to the Indian Gaming Regulatory Act, signed into law on October 17, 1988, the Tribe may enter into a Gaming Management Contract for the operation and management of a gaming facility subject to the approval of the NIGC. The purpose of the Proposed Action is to help provide for the economic development of the Jamul Reservation.

The enterprise to be managed includes a gaming facility, a multi-level parking structure, surface parking lot, fire-fighting facilities, wastewater treatment plant/disposal facilities, water delivery system, and improved on-site traffic circulation. The main use within the gaming facility is the gaming floor, which would contain slot machines, table games, and poker entertainment. The total estimated gaming floor area for the gaming facility is 70,000 square feet. The exterior of the complex would include downcast lighting consistent with San Diego County codes and ordinances to maintain consistency with the surrounding area.

The environmental effects of a gaming facility on the Tribe's Reservation has been extensively studied and evaluated since 2000 when the Tribe originally approached the BIA and NIGC with fee-to-trust and Gaming Management Contract requests. Serving as the lead agency for these initial requests, the BIA originally developed and published an environmental assessment (EA) on February 1, 2001. The NIGC served as a Cooperating Agency for this early request. The Final EA was completed and published in November 2001. Following a decision by the BIA and NIGC that the mitigation measures in the EA were too provisional, the BIA and NIGC developed an environmental impact statement (EIS) for the proposed fee-to-trust and Management Contract requests. The notice of intent for the EIS was published in the Federal Register on April 2, 2002 (67 FR 15583). The notice of availability for the Draft EIS was published in the Federal Register on January 17, 2003 (68 FR 2538). After release of the Draft EIS, a public meeting was held on February 6, 2003 at the El Cajon Community Center to take comments from the public. Following receipt and consideration of all comments on the Draft EIS, the notice of availability of the Final EIS was published on November 14, 2003 (68 FR 64622).

Between late 2003 and early 2006, the Tribe revised their project to eliminate the fee-to-trust component and to reconfigure all uses onto the existing Reservation except for an access road, which is designed to travel through adjacent tribally owned land connecting the Reservation with State Route 94. The project modifications were evaluated by the Tribe in a Tribal Environmental Impact Statement/Report (December 2006). Additional changes to the project resulted in the release of a Draft Tribal Environmental Evaluation (Tribal EE) in March 2012 and a Final Tribal EE in January 2013. Between release of the Draft and Final Tribal EE, the Tribe provided a public comment period and held a public meeting to accept comments on the Draft Tribal EE. All written and oral comments provided by the public during the comment period were responded to and incorporated into the Final Tribal EE. The Final Tribal EE was certified as adequate and complete by the Tribe in January 2013. Now that the Tribe has completed the final version of the proposed gaming facility, they are requesting NIGC approval of a Gaming Management Contract between the Tribe and SDGV.

The gaming facility has always been designed to be located on the Reservation; however, other uses such as the wastewater treatment/disposal facilities, fire-fighting facilities, and structured parking were designed to be located on adjacent land north of the Reservation. The reconfiguration of uses to place all features on the Reservation, together with the passage of time since the Final EIS was circulated, has resulted in the need for the NIGC to develop and issue an SEIS to address these changes. No other alternatives will be addressed in the SEIS.

Issues to be addressed in the SEIS include updating the environmental baseline and impact/mitigation analysis of the 2003 Final EIS as it relates to the new design alternative. Areas to be analyzed include land resources, water resources, air quality, biological resources, cultural and paleontological resources, socioeconomics, transportation, land use, agriculture, public services, noise, hazardous materials and visual resources.

Directions for Submitting Public Comments: Please include your name, return address, and the caption “SEIS Jamul Gaming Project” on the first page of any written comments you submit. Please note that comments will only be received in writing by email, facsimile or regular mail. Pursuant to 40 CFR 1502.9, no public scoping meeting will be held for this SEIS.

Public Availability of Comments: Comments, including names and addresses of respondents, will be available for public review at the BIA, Pacific Region address shown in the ADDRESSES section of this notice, during regular business hours, Monday through Friday, except holidays. Before including your address, phone number, email address, or other personal identifying information in your comment, you should be aware that your entire comment—including your personal identifying information—may be made publicly available at any time. While you can ask us in your comment to withhold your personal identifying information from public review, we cannot guarantee that we will be able to do so.

Authority: This notice is published in accordance with 25 U.S.C. 2711, section 1501.7 of the Council on Environmental Quality Regulations (40 CFR parts 1500 through 1508), and the Department of the Interior regulations (43 CFR part 46), implementing the procedural requirements of NEPA, as amended (42 U.S.C. 4321 et seq.).

Dated: April 4, 2013.
Dawn Houle,
Chief of Staff.

[FR Doc. 2013-08267 Filed 4-9-13; 8:45 am]

BILLING CODE 7565-01-P